DEPARTMENT OF LABOR

Employment and Training Administration

[TA-W-75,009A]

The Ubs Group, a Division Of Ubs Ag, Also Known as Ubs Financial Services, Inc. and/or Ubs-Glb (Americas), Inc., Formerly Known as Brinson Partners, Inc., Corporate Center Division; Group Technology Infrastructure Services, Distributed Systems and Storage Group; Chicago, Illinois; Amended Certification Regarding Eligibility to Apply for Worker Adjustment Assistance

In accordance with section 223 of the Trade Act of 1974, as amended (“Act”), 19 U.S.C. 2273, the Department of Labor issued a Certification of Eligibility to Apply for Worker Adjustment Assistance on February 8, 2010, applicable to workers of The UBS Group, a division of UBS AG, also known as UBS Financial Services, Inc., and/or UBS-GLB (Americas), Inc., Corporate Center Division, Group Technology Infrastructure Services, Distributed Systems and Storage Group, Chicago, Illinois. The workers provide information technology services. The notice was published in the Federal Register on December 8, 2010 (75 FR 76488).

At the request of the company, the Department reviewed the certification for workers of the subject firm.

New information shows that UBS-GLB (Americas), Inc. is formerly known as Brinson Partners. Some workers separated from employment at the Chicago, Illinois location of The UBS Group, a division of UBS AG, also known as UBS Financial Services, Inc., and/or UBS-GLB (Americas), Inc., formerly known as Brinson Partners, Corporate Center Division, Group Technology Infrastructure Services, Distributed Systems and Storage Group have their wages reported under a separate unemployment insurance (UI) tax account under the name Brinson Partners.

Accordingly, the Department is amending this certification to properly reflect this matter.

The intent of the Department's certification is to include all workers of the subject firm who were adversely affected by a shift in information technology services to Singapore.

The amended notice applicable to TA-W-75,009 is hereby issued as follows:

“All workers of UBS Group, a division of UBS AG, also known as UBS Financial Services, Inc., and/or UBS-GLB (Americas), Inc., Corporate Center Division, Group Technology Infrastructure Services, Distributed Systems and Storage Group, Stamford, Connecticut (TA-W-75,009); and UBS Group, a division of UBS AG, also known as UBS Financial Services, Inc., and/or UBS-GLB (Americas), Inc., formerly known as Brinson Partners, Inc., Corporate Center Division, Group Technology Infrastructure Services, Distributed Systems and Storage Group, Chicago, Illinois (TA-W-75,009A); and UBS Group, a division of UBS AG, also known as UBS Financial Services, Inc., and/or UBS-GLB (Americas), Inc., Corporate Center Division, Group Technology Infrastructure Services, Distributed Systems and Storage Group, New York, New York (TA-W-75,009B), who became totally or partially separated from employment on or after December 15, 2009, through February 8, 2013, and all workers in the group threatened with total or partial separation from employment on date of certification through two years from the date of certification, are eligible to apply for adjustment assistance under Chapter 2 of Title II of the Trade Act of 1974, as amended.”

Signed in Washington, DC, this 31st day of March, 2011.
Michael W. Jaffe,
Certifying Officer, Office of Trade Adjustment Assistance.

[FR Doc. 2011-8494 Filed 4-8-11; 8:45 am]

BILLING CODE 4510-FN-P